DEPARTMENT OF DEFENSE

Office of the Secretary

Department of Defense Task Force on the Care, Management, and Transition of Recovering Wounded, Ill, and Injured Members of the Armed Forces; Notice of Meeting

AGENCY: Department of Defense, Office of the Assistant Secretary of Defense.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting of the Department of Defense Task Force on the Care, Management, and Transition of Recovering Wounded, Ill, and Injured Members of the Armed Forces (subsequently referred to as the Task Force) will take place.

DATES: Wednesday, June 13, 2012-Friday, June 15, 2012, from 8:00 a.m. to 5:00 p.m. EDT, each day.

ADDRESSES: Crowne Plaza Old Town Alexandria, 901 N. Fairfax St., Alexandria, VA 22314.

FOR FURTHER INFORMATION CONTACT: Mail Delivery service through Recovering Warrior Task Force, Hoffman Building II, 200 Stovall St., Alexandria, VA 22332-0021 “Mark as Time Sensitive for June Meeting”. Emails to rwtf@wso.whs.mil. Denise F. Dailey, Designated Federal Officer; Telephone (703) 325-6640. Fax (703) 325-6710.

SUPPLEMENTARY INFORMATION: Purpose of the Meeting: The purpose of the meeting is for the Task Force Members to prepare and vote on recommendations and time permitting, discuss the remaining sections of the annual report.

Agenda: (Please refer to http://dtf.defense.gov/rwtf/meetings.html] for the most up-to-date meeting information).

Day One: Wednesday, June 13, 2012

8 a.m. Preparatory Session Breakout Groups (Not Open to the Public) Task Force members will prepare position papers and presentations to the Task Force.

9 a.m. Public Presentation Forum. (Open to the public)

9:30 a.m. Break.

9:45 a.m. Task Force Members Review of the Preparatory Session Work. (Open to the Public)

12 p.m. Lunch.

1 p.m. Continue Preparatory Session Breakout Groups. (Not Open to the Public)

2 p.m. Consolidated Voting Session (Open to the Public) Return for review of preparatory sessions' work and begin a recommendation voting session.

5 p.m. Closing.

Day Two: Thursday, June 14, 2012.

8 a.m. Consolidated Voting Session. (Open to the public)

12 p.m. Lunch.

1 p.m. Consolidated Voting Session. (Open to the public)

2 p.m. Consolidated Voting Session. (Open to the Public)

5 p.m. Closing.

Day Three: Friday, June 15, 2012. (All Open to the Public)

8 a.m. If voting has been completed, the Task Force will review next year's recommended installation visits and topics. If voting is not complete, a voting session will continue until complete.

10:15 a.m. Break.

10:30 a.m. Establish matrix breakout for each recommendation. Subject to voting session completion.

12 p.m. Lunch.

1 p.m. Review best practices enclosure. Subject to voting session completion.

2 p.m. Review Executive Summary. Subject to voting session completion

3 p.m. Review Appendices. Subject to voting session completion..

5 p.m. Closing

Public's Accessibility to the Meeting: Pursuant to 5 U.S.C. 552b and 41 CFR 102-3.140 through 102-3.165, and the availability of space, this meeting is open to the public. Seating is on a first-come basis.

Pursuant to 41 CFR 102-3.105(j) and 102-3.140, and section 10(a)(3) of the Federal Advisory Committee Act of 1972, the public or interested organizations may submit written statements to the Department of Defense Task Force on the Care, Management, and Transition of Recovering Wounded, Ill, and Injured Members of the Armed Forces about its mission and functions. If individuals are interested in making an oral statement during the Public Forum time period, a written statement for a presentation of two minutes must be submitted through the contact information in FOR FURTHER INFORMATION CONTACT and must identify it is being submitted for an oral presentation by the person making the submission. Identification information must be provided and at a minimum must include a name and a phone number. Individuals may visit the Task Force Web site at http://dtf.defense.gov/rwtf/ to view the Charter. Individuals making presentations will be notified by Friday, June 8, 2012. Oral presentations will be permitted only on Wednesday, June 13, 2012 from 9-9:30 a.m. EDT before the Task Force. The number of oral presentations will not exceed ten, with one minute of questions available to the Task Force members per presenter. Presenters should not exceed their two minutes.

Written statements in which the author does not wish to present orally may be submitted at any time or in response to the stated agenda of a planned meeting of the Department of Defense Task Force on the Care, Management, and Transition of Recovering Wounded, Ill, and Injured Members of the Armed Forces.

All written statements shall be submitted to the Designated Federal Officer for the Task Force through the contact information in FOR FURTHER INFORMATION CONTACT, and this individual will ensure that the written statements are provided to the membership for their consideration.

Statements, either oral or written, being submitted in response to the agenda mentioned in this notice must be received by the Designated Federal Officer at the address listed in FOR FURTHER INFORMATION CONTACT no later than 5 p.m. EDT, Wednesday, June 6, 2012 which is the subject of this notice. Statements received after this date may not be provided to or considered by the Task Force until its next meeting. Please mark mail correspondence as “Time Sensitive for June Meeting.”

The Designated Federal Officer will review all timely submissions with the Task Force Co-Chairs and ensure they are provided to all members of the Task Force before the meeting that is the subject of this notice.

Reasonable accommodations will be made for those individuals with disabilities who request them. Requests for additional services should be directed to Heather Jane Moore, (703) 325-6640, by 5 p.m. EDT, Wednesday, June 6, 2012.

Dated: May 21, 2012.
Aaron Siegel,
Alternate OSD Federal Register Liaison Officer, Department of Defense.

[FR Doc. 2012-12662 Filed 5-24-12; 8:45 am]

BILLING CODE 5001-06-P